DEPARTMENT OF HEALTH AND HUMAN SERVICES

Centers for Disease Control and Prevention

[30Day-20-19BNG]

Agency Forms Undergoing Paperwork Reduction Act Review

In accordance with the Paperwork Reduction Act of 1995, the Centers for Disease Control and Prevention (CDC) has submitted the information collection request titled Performance Measurement for STD Prevention to the Office of Management and Budget (OMB) for review and approval. CDC previously published a “Proposed Data Collection Submitted for Public Comment and Recommendations” notice on August 13, 2019 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Performance Measurement for STD Prevention—New—National Center for HIV, Viral Hepatitis, STD, and TB Prevention (NCHHSTP), Centers for Disease Control and Prevention (CDC).

Background and Brief Description

Health departments play a critical role in addressing STD prevention and control and are well-positioned to monitor and understand local trends in STDs through case-based surveillance, and to respond to emerging threats and outbreaks. Health department STD programs also have the authority and skills to conduct disease investigation activities including partner services, an effective intervention to prevent STD transmission in some populations. Given that most STDs are diagnosed outside of public STD clinics, health departments must also work with primary care and other health care providers and organizations to promote the delivery of recommended, evidence-based STD screening, timely treatment, and other prevention services.

Federal support for state, local, and territorial health departments to carry out these functions has been in place for decades and remains a critical source of funding to monitor and fight increasing STDs across the US. CDC's cooperative agreement PS19-1901 STD PCHD (Sexually Transmitted Diseases Prevention and Control for Health Departments) is the latest iteration of this support, covering the five-year period 2019-2024. The cooperative agreement represents a focused scope of work that reflects the core public health functions of assessment, assurance, and policy and aligns with today's STD epidemiology and best practices. In 2019, approximately $92.5 million dollars were awarded by CDC to 59 state, local, and territorial health departments to carry out these functions.

The goal of this data collection is to guide performance measurement efforts among the 59 health departments that receive funding from CDC to conduct STD surveillance, prevention and control through cooperative agreement PS19-1901. The purpose is to assess recipients' individual and collective progress towards the larger aims of the cooperative agreement, direct technical assistance to recipients, and obtain information needed to help assess the cooperative agreement's public health impact. The resulting data will be used to identify areas for improvement both within individual sites and as it pertains to the funded community as a whole, and to document outcomes associated with STD surveillance, prevention, and control efforts.

Data will be collected in aggregate using a Microsoft Excel-based data collection tool. All health department recipients will be required to submit the data tool annually. The population from which data will be collected is the 59 state, local, and territorial health departments that are funded through the cooperative agreement PS19-1901 STD PCHD. The total annual burden hours are 1,770. There are no other costs to respondents other than their time.

Estimated Annualized Burden Hours
Type of respondents | Form name | Number of respondents | Number of responses per respondent | Average burden per response (in hours)
State health departments | Data Collection Tool | 50 | 1 | 30
Local health departments | Data Collection Tool | 7 | 1 | 30
Territorial health departments | Data Collection Tool | 2 | 1 | 30

Jeffrey M. Zirger,
Lead, Information Collection Review Office, Office of Scientific Integrity, Office of Science, Centers for Disease Control and Prevention.

[FR Doc. 2020-01857 Filed 1-30-20; 8:45 am]

BILLING CODE 4163-18-P